DEPARTMENT OF TRANSPORTATION

Federal Aviation Administration

14 CFR Part 23

[Docket No. CE177A, Special Condition 23-112A-SC]

Special Conditions; Eclipse Aviation Corporation, Model 500 Airplane; Protection of Systems From High Intensity Radiated Fields (HIRF): Correction

AGENCY: Federal Aviation Administration (FAA), DOT.

ACTION: Final special conditions; request for comments; correction.

SUMMARY: The FAA published a document in the Federal Register on March 13, 2002, concerning final special conditions with a request for comments on the Eclipse Aviation Corporation, Model 500 airplane. There were some inadvertent errors in the document. This document contains corrections to the final special conditions and reopens the comment period.

DATES: The effective date of these corrected special conditions is April 19, 2002. Comments must be received on or before June 3, 2002.

ADDRESSES: Comments may be mailed in duplicate to: Federal Aviation Administration, Regional Counsel, ACE-7, Attention: Rules Docket Clerk, Docket No. CE177A, Room 506, 901 Locust, Kansas City, Missouri 64106. All comments must be marked: Docket No. CE177A. Comments may be inspected in the Rules Docket weekdays, except Federal holidays, between 7:30 a.m. and 4:00 p.m.

FOR FURTHER INFORMATION CONTACT: Ervin Dvorak, Aerospace Engineer, Standards Office (ACE-110), Small Airplane Directorate, Aircraft Certification Service, Federal Aviation Administration, 901 Locust, Room 301, Kansas City, Missouri 64106; telephone (816) 329-4123.

SUPPLEMENTARY INFORMATION:

Need for Correction

The FAA published a document in the Federal Register on March 13, 2002 (67 FR 11218) that issued final special conditions and requested comments. In the document, three errors appeared. This document corrects those errors.

Correction of Publication

Accordingly, the publication of the final special conditions with request for comments (Docket No. CE177) is corrected as follows:

1. On page 11218, column 3, beginning on line 12 under the “Summary” paragraph, the words “displays manufactured by Eclipse Aviation Corporation” appear. Remove these words and insert the words “displays used in the Model 500 airplane manufactured by Eclipse Aviation Corporation” in their place.

2. On page 11218, column 3, under the paragraph marked “addresses,” on line 5 of the paragraph marked “addresses,” “Docket No. CE156” appears. The docket number is corrected to read “Docket No. CE177.”

3. On page 11219, column 3, in the table at the end of the column, line 3 under the column marked “Frequency,” the frequency listed as “500 kHz-20 MHz” is corrected to read “500 kHz-2 MHz.”

Comments Invited

Interested persons are invited to submit such written data, views, or arguments as they may desire. Communications should identify the regulatory docket or notice number and be submitted in duplicate to the address specified above. All communications received on or before the closing date for comments will be considered by the Administrator. The special conditions may be changed in light of the comments received. All comments received will be available in the Rules Docket for examination by interested persons, both before and after the closing date for comments. A report summarizing each substantive public contact with FAA personnel concerning this rulemaking will be filed in the docket. Commenters wishing the FAA to acknowledge receipt of their comments submitted in response to this notice must include a self-addressed, stamped postcard on which the following statement is made: “Comments to Docket No. CE177A.” The postcard will be date stamped and returned to the commenter.

Issued in Kansas City, Missouri on April 19, 2002.
Dorenda D. Baker,
Acting Manager, Small Airplane Directorate, Aircraft Certification Service.

[FR Doc. 02-10936 Filed 5-1-02; 8:45 am]

BILLING CODE 4910-13-P